INTERNATIONAL TRADE COMMISSION

[Investigation No. 337-TA-1044]

Certain Graphics Systems, Components Thereof, and Consumer Products Containing the Same; Commission Determination To Institute a Modification and Rescission Proceeding; Modification and Rescission of Certain Remedial Orders; and Termination of the Proceeding

AGENCY: U.S. International Trade Commission.

ACTION: Notice.

SUMMARY: Notice is hereby given that the U.S. International Trade Commission has determined to institute a modification and rescission proceeding. The Commission has further determined to grant a joint petition to modify in part a limited exclusion order (“LEO”) as to Respondent VIZIO, Inc. (“VIZIO”) and to rescind the cease and desist order (“CDO”) against VIZIO, based on a settlement agreement. The Commission has issued a modified LEO. The modification and rescission proceeding is terminated.

FOR FURTHER INFORMATION CONTACT: Houda Morad, Office of the General Counsel, U.S. International Trade Commission, 500 E Street SW, Washington, DC 20436, telephone (202) 708-4716. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Investigation No. 337-TA-1044 on March 22, 2017, based on a complaint filed by Complainants Advanced Micro Devices, Inc. of Sunnyvale, California and ATI Technologies ULC of Canada (collectively, “AMD” or “Complainants”). See 82 FR 14748 (Mar. 22, 2017). The complaint, as amended, alleges violations of section 337 of the Tariff Act of 1930, as amended (19 U.S.C. 1337), based upon the importation into the United States, the sale for importation, and the sale within the United States after importation of certain graphics systems, components thereof, and consumer products containing the same, by reason of infringement of certain claims of U.S. Patent No. 7,633,506 (“the '506 patent); U.S. Patent No. 7,796,133; U.S. Patent No. 8,760,454; and U.S. Patent No. 9,582,846. Id. The notice of investigation identified LG Electronics, Inc. of Seoul, Republic of Korea, LG Electronics U.S.A., Inc. of Englewood Cliffs, New Jersey, and LG Electronics MobileComm U.S.A. Inc. of San Diego, California (collectively, “LG”), VIZIO of Irvine, California, MediaTek Inc. of Hsinchu City, Taiwan and Media Tek USA Inc. of San Jose, California (collectively, “MediaTek”), and SDI of Fremont, California, as respondents in this investigation. See id. The Office of Unfair Import Investigations (“OUII”) is also a party to the investigation.

On October 20, 2017, the Administrative Law Judge (“ALJ”) issued an initial determination terminating the investigation as to LG based on settlement. See Order No. 48 (Oct. 20, 2017), unreviewed, Comm'n Notice (Nov. 13, 2017). The remaining respondents in this investigation are VIZIO, MediaTek, and SDI (hereinafter, “Respondents”).

On April 13, 2018, the ALJ issued her final initial determination (“FID”) finding a violation of section 337 with respect to the '506 patent. On August 22, 2018, the Commission affirmed with modification the FID's findings. See 83 FR 43899-900 (Aug. 28, 2018). The Commission also determined that the appropriate remedy is a LEO against Respondents' infringing products and CDOs against VIZIO and SDI. See id.

On September 11, 2018, Complainants and VIZIO filed a joint petition (Petition) to modify in part the LEO as to VIZIO and to rescind the CDO against VIZIO, based on a settlement agreement. The Petition states that “[p]ursuant to this settlement, all VIZIO articles currently covered by the Commission's Limited Exclusion Order are now licensed.” See Petition at 1. On September 21, 2018, the Investigative Attorney filed a response in support of the Petition. No other party filed a response or opposition to the Petition.

In view of the settlement agreement between Complainants and VIZIO, the Commission finds that the conditions justifying the remedial orders against Respondent VIZIO no longer exist, and therefore, granting the petition is warranted under 19 U.S.C. 1337(k) and 19 CFR 210.76(a). Accordingly, the Commission has determined to institute a modification and rescission proceeding. The Commission has further determined to grant the joint petition to modify in part the LEO as to VIZIO and to rescind the CDO against VIZIO. The Commission has issued a modified LEO. The modification and rescission proceeding is terminated.

The authority for the Commission's determination is contained in section 337 of the Tariff Act of 1930, as amended (19 U.S.C. 1337), and in part 210 of the Commission's Rules of Practice and Procedure (19 CFR part 210).

By order of the Commission.
Issued: October 5, 2018.
Lisa Barton,
Secretary to the Commission.

[FR Doc. 2018-22115 Filed 10-10-18; 8:45 am]

BILLING CODE 7020-02-P